DEPARTMENT OF TRANSPORTATION

Office of the Secretary

Notice of Meeting

AGENCY: Office of the Secretary (OST), DOT.

ACTION: Notice of meeting.

SUMMARY: The U.S. Department of Transportation (DOT) announces a meeting of the Transportation Labor-Management Board (Board). Notice of the meeting is required under the Federal Advisory Committee Act.

Time and Place: The Board will meet on Tuesday, November 25, 2003, at 2 p.m., at the U.S. Department of Transportation, Nassif Building, Room 4400, 400 Seventh Street, SW., Washington, DC 20590. The room is located on the 4th floor.

Type of Meeting: The meeting is open to the public. Please note that visitors without a government identification badge should enter the Nassif Building at the Southwest lobby, for clearance at the Visitor's Desk. Seating will be available on a first-come, first-served basis. Handicapped individuals wishing to attend should contact DOT to obtain appropriate accommodations.

Point of Contact: Stephen Gomez, Executive Secretary, Transportation Labor-Management Board, U.S. Department of Transportation, Nassif Building, 400 Seventh Street, SW., Room 7411, Washington, DC 20590, (202) 366-9455 or 4088.

SUPPLEMENTARY INFORMATION: The Board will be briefed on DOT's migration to the Federal Personnel and Payroll System, the Common Access Architecture project, and the activities of the subcommittees on Human Capital, Competitive Sourcing, and the DOT Labor Relations Climate Survey.

Public Participation: We invite interested persons and organizations to submit comments. Mail or deliver your comments or recommendations to Stephen Gomez at the address shown above. Comments should be received by November 17, 2003 in order to be considered at the November 25th meeting.

Issued in Washington, DC, on October 31, 2003.
For the Department of Transportation.
Linda Moody,
Associate Director, Workforce Environment and Pay Division.

[FR Doc. 03-28051 Filed 11-6-03; 8:45 am]

BILLING CODE 4910-62-P